DEPARTMENT OF TRANSPORTATION

Federal Aviation Administration

Notice of Intent To Rule on Application (#02-04-U-00-DRO) To Use the Revenue From a Passenger Facility Charge (PFC) at Durango-La Plata County Airport, Submitted by the Durango-La Plata County Airport, Durango, CO

AGENCY: Federal Aviation Administration (FAA), DOT.

ACTION: Notice of intent to rule on application.

SUMMARY: The FAA proposes to rule and invites public comment on the application to use PFC revenue at Durango-La Plata County Airport under the provisions of 49 U.S.C. 40117 and Part 158 of the Federal Aviation Regulations (14 CFR part 158).

DATES: Comments must be received on or before October 22, 2002.

ADDRESSES: Comments on this application may be mailed or delivered in triplicate to the FAA at the following address: Alan E. Wiechmann, Manager; Denver Airports District Office, DEN-ADO; Federal Aviation Administration; 26805 E. 68th Avenue, Suite 224; Denver, CO 80249-6361.

In addition, one copy of any comments submitted to the FAA must be mailed or delivered to Mr. Ron Dent, A.A.E., Director of Aviation, at the following address: Durango-La Plata County Airport, 1000 Airport Road, Box 1, Durango, CO 81303.

Air Carriers and foreign air carriers may submit copies of written comments previously provided to Durango-La Plata County Airport, under section 158.23 of Part 158.

FOR FURTHER INFORMATION CONTACT: Mr. Christopher Schaffer, (303) 342-1258; Denver Airports District Office, DEN-ADO; Federal Aviation Administration; 26805 E. 68th Avenue, Suite 224; Denver, CO 80249-6361. The application may be reviewed in person at this same location.

SUPPLEMENTARY INFORMATION: The FAA proposes to rule and invites public comment on the application (#02-04-U-00-DRO) to use PFC revenue at Durango-La Plata County Airport, under the provisions of 49 U.S.C. 40117 and Part 158 of the Federal Aviation Regulations (14 CFR part 158).

On September 16, 2002, the FAA determined that the application to use the revenue from a PFC, submitted by the Durango-La Plata County Airport, Durango, Colorado, was substantially complete within the requirements of section 158.25 of Part 158. The FAA will approve or disapprove the application, in whole or in part, no later than December 17, 2002.

The following is a brief overview of the application.

Level of the proposed PFC: $3.00.

Proposed charge effective date: September 1, 2001.

Proposed charge expiration date: June 1, 2004.

Total requested for approval: $973,140.00.

Brief description of proposed project: Rehabilitate Runway 2/20; Install distance remaining signs.

Class or classes of air carriers, which the public agency has requested not be required to collect PFC's. None.

Any person may inspect the application in person at the FAA office listed above under FOR FURTHER INFORMATION CONTACT and at the FAA Regional Airports Office located at: Federal Aviation Administration, Northwest Mountain Region, Airports Division, ANM-600, 1601 Lind Avenue S.W., Suite 315, Renton, WA 98055-4056.

In addition, any person may, upon request, inspect the application, notice and other documents germane to the application in person at the Durango-La Plata County Airport.

Issued in Renton, Washington on September 16, 2002.
David A. Field,
Manager, Planning, Programming and Capacity Branch, Northwest Mountain Region.

[FR Doc. 02-24244 Filed 9-23-02; 8:45 am]

BILLING CODE 4910-13-M